DEPARTMENT OF HOMELAND SECURITY

Federal Emergency Management Agency

[Docket ID: FEMA-2025-0015; OMB No. 1660-NW179]

Agency Information Collection Activities: Proposed Collection; Comment Request; FEMA Reasonable Accommodation Medical Request Form

AGENCY: Federal Emergency Management Agency, Department of Homeland Security.

ACTION: 60-Day notice of new collection and request for comments.

SUMMARY: The Federal Emergency Management Agency (FEMA), as part of its continuing effort to reduce paperwork and respondent burden, invites the general public to take this opportunity to comment on an existing information collection in use without an OMB control number. In accordance with the Paperwork Reduction Act of 1995, this notice seeks comments concerning FEMA's new instrument to collect information to make informed reasonable accommodation decisions.

DATES: Comments must be submitted on or before October 14, 2025.

ADDRESSES: Submit comments at www.regulations.gov under Docket ID FEMA-2025-0015. Follow the instructions for submitting comments.

All submissions received must include the agency name and Docket ID, and will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Mr. Alejandro Ortiz, Disability Support Branch Chief, Office of Civil Rights, (202) 813-2511 or Alejandro.Ortiz@fema.dhs.gov. You may contact the Information Management Division for copies of the proposed collection of information at FEMA-Information-Collections-Management@fema.dhs.gov.

SUPPLEMENTARY INFORMATION: FEMA is making a submission to the Office of Management and Budget (OMB) for this collection of information requesting medical documentation from a licensed health care provider about the functional limitations, duration, and need for a reasonable accommodation that support an employee or applicant's request for reasonable accommodation in accordance with the Rehabilitation Act of 1973, 29 CFR part 1614, and Executive Order 13163 on Increasing the Opportunity for Individuals With Disabilities To Be Employed in the Federal Government.

Consistent with the law, FEMA managers have a right to request medical documentation when a disability or need for accommodation is not known or obvious. The intended respondents include primarily employees and their respective licensed health care providers but may also include applicants for FEMA employment. Generally, two individuals will complete each form, the requestor and the licensed medical professional. An estimated 2,000 individuals will be requested to fill out this form annually, and an estimated 232 will respond to the collection of information.

FEMA managers will use the information gathered to inform decisions about whether to grant an accommodation and determine together with the employee in an interactive process what accommodations would most appropriately address the requestor's functional limitations. The medical data on this form will be considered confidential and will only be distributed to those in the organization with a need to know. The data will be saved in an approved system of records (authorized by the Department of Homeland Security), which will require an additional recordkeeping burden of approximately 2 hours per form (including analyzing the form and saving the form in the approved recordkeeping system).

Collection of Information

Title: FEMA Reasonable Accommodation Medical Request Form.

Type of Information Collection: New Collection.

OMB Number: 1660-NW179.

FEMA Forms: FEMA Form FF-256-FY-25-100, FEMA Reasonable Accommodation Medical Request Form.

Abstract: FEMA's new form supports a fair, efficient, and consistent process for evaluating employee requests for reasonable accommodations. It ensures that medical information is collected by license health care providers, helping the agency make informed decisions. FEMA is streamlining the process by ensuring that all necessary and relevant information is consistently captured. By providing a clear and uniform structure, it enhances efficiency for employees and licensed health care providers, while reducing the potential for delays caused by incomplete or insufficient submissions of medical documentation.

Affected Public: Business or other for-profit, and not-for-profit institutions.

Estimated Number of Respondents: 232.

Estimated Number of Responses: 232.

Estimated Total Annual Burden Hours: 116.

Estimated Total Annual Respondent Cost: $7,901.

Estimated Respondents' Operation and Maintenance Costs: $0.

Estimated Respondents' Capital and Start-Up Costs: $0.

Estimated Total Annual Cost to the Federal Government: $469,728.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Russell R. Bard,
Acting Director for Information Management, Office of the Chief Administrative Officer, Mission Support, Federal Emergency Management Agency, Department of Homeland Security.

[FR Doc. 2025-15516 Filed 8-14-25; 8:45 am]

BILLING CODE 9111-19-P